ENVIRONMENTAL PROTECTION AGENCY

[ER-FRL-6657-4]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at (202) 564-7167. An explanation of the ratings assigned to draft environmental impact statements (EISs) was published in FR dated April 02, 2003 (69 FR 17403).

Draft EISs

ERP No. D-AFS-G65093-NM Rating LO, San Diego Range Allotment Project, Proposes to Revise Grazing Program, Santa Fe National Forest, Jemez Ranger District, Township 17-19 North, Range 1-3 East, Sandoval County, NM.

Summary: EPA has no objection to the selection of the preferred alternative.

ERP No. D-AFS-J65422-MT Rating EC2, West Side Reservoir Post-Fire Project, Proposed Implementation of Timber Salvage and Access Management Treatments, Flathead National Forest, Hungry Horse and Spotted Bear Ranger Districts, Flathead County, MT.

Summary: EPA supports actions that promote watershed restoration. However, EPA expressed environmental concerns because all actions alternatives, including the preferred, have the potential to cause adverse impacts to riparian area, soils, water quality, and the threatened grizzly bear. The final EIS should maximize decommissioning of road, restrict ORV use from wetlands and other sensitive habitats, provide large snags and downed material to improve habitat quality and continue to minimize new road construction.

ERP No. D-BLM-K65275-00 Rating LO, California Coastal National Monument Resource Management Plan, To Protect Important Biological and Geological Values: Islands, Rocks, Exposed Reefs, and Pinnacles above Mean High Tide, CA, OR and Mexico.

Summary: EPA has no objection to the proposed Balanced Management Alternative.

ERP No. DS-GSA-G80000-TX Rating LO, Del Rio Port of Entry (POE), Increased Security Measures Associated with Phase II Expansion, Supplement to the 1992 Del Rio Border Patrol Station, Del Rio, Val Verde County, TX.

Summary: EPA has no objections to the proposed alternative.

Final EISs

ERP No. F-AFS-J70020-CO Upper Blue Stewardship Project, Vegetation Management, Travel Management, and Dispersed Camping Sites Designation, Implementation, U.S. Army COE 404 Permit, White River National Forest, Dillon Ranger District, Summit County, CO.

Summary: EPA's concerns were adequately addressed in the Final EIS; therefore, EPA has no objection to the proposed action.

ERP No. F-FHW-H40176-MO US 40/61 Bridge Location Study Over the Missouri River, Improvement of the Transportation System, section 9 of the Rivers and Harbor Act Permit, and U.S. Army COE section 10 and 404 Permits, Missouri River, St. Charles and St. Louis Counties, MO.

Summary: The Final EIS adequately addresses issues raised by EPA in the review of the Draft EIS for this action; therefore, EPA has no additional comments related to the bridge construction as described in the Final EIS.

ERP No. F-FHW-J40161-UT I-15, 31st Street in Ogden to 2700 North in Farr West, Reconstruction, Widening and Interchange Improvements, Funding and U.S. Army COE section 404 Permit, Weber County, UT.

Summary: EPA expressed concern about FHWA's responses to EPA's comments on the air quality analysis performed for the DEIS.

Amended Notice: ERP No. F-AFS-L65443-OR Biscuit Fire Recovery Project, Various Management Activities Alternatives, Implementation, The Rogue River and Siskiyou National Forests, Josephine and Curry Counties, OR.

Summary: The modified preferred alternative was well crafted to balance the need to salvage valuable wood, provide economic opportunities to the local community, and protect and restore the burn area. In addition to reducing the overall salvage acreage by a third, the modified preferred alternative includes additional riparian protection and has reduced salvage from small openings within the Late Successional Reserves. The riparian buffers, culvert work, replanting, and benefits of decommissioning, closing, and stabilizing over 70 miles of roads should result in an overall, long term benefit to water quality. These changes address the significant concerns EPA raised in comments on the draft EIS. Revision of FR Notice Published on 9/3/2004: Correction to ERP Summary Paragraph.

Dated: November 2, 2004.
Robert W. Hargrove,
Director, NEPA Compliance Division, Office of Federal Activities.

[FR Doc. 04-24752 Filed 11-4-04; 8:45 am]

BILLING CODE 6560-50-P